DEPARTMENT OF THE INTERIOR

National Park Service

Burr Trail Modifications, Final Environmental Impact Statement, Capitol Reef National Park, Utah

AGENCY: National Park Service, Department of the Interior.

ACTION: Notice of Availability of a Record of Decision on the Final Environmental Impact Statement for the Burr Trail Modifications, Capitol Reef National Park.

SUMMARY: Pursuant to § 102(2)(C) of the National Environmental Policy Act of 1969, 83 Stat. 852, 853, codified as amended at 42 U.S.C. 4332(2)(C), the National Park Service announces the availability of the Record of Decision for the Burr Trail Modifications, Capitol Reef National Park, Utah. On October 23, 2006 the Director, Intermountain Region approved the Record of Decision for the project. As soon as practicable, the National Park Service will begin to implement the Preferred Alternative contained in the FEIS issued on July 14, 2006.

The following course of action will occur under the preferred alternative. In areas with high bentonite clay content, a gravel surface course will be constructed to increase safety. Geotextile fabric may be used between the aggregate and subbase to prevent gravel loss into the subgrade.

Without altering the overhanging rock, a narrow section of the road at mile point 0.65 will be widened by 6 feet to 10 feet. This will be accomplished by moving the northern roadside ditch toward the overhanging rock. A rock embankment will be added to the southern side of the road (the north bank of Sandy Creek) to provide structural stability for a portion of the road as well as slope protection.

The road bank in the vicinity of mile points 0.75 and 0.85 will be stabilized using slope protection to reduce erosion and maintain the natural contours of the existing stream channel. Up to 530 linear feet of slope protection will be placed along the base and 6 feet or more up the sides of the road embankment. The base width of the protection will remain aligned with the slope to minimize placement of rock within the existing stream channel.

Two paved fords, impassable whenever water flows across the roadway, will be constructed at mile points 0.10 and 0.20. Two vented paved fords will be constructed at mile points 0.50 and 0.60. These crossings will be passable during 2-year storm events; floodwaters will be conveyed through two 24-inch-diameter corrugated metal pipe culverts. The paved fords (vented and unvented) will be relatively consistent with the existing topography, and their length will be sufficient to contain overtopping 10-year storm event floodwaters within the paved area. Each of the fords will include slope protection to protect the upstream and downstream banks and inlet and outlet protection to reduce and minimize erosion and scour.

Paved fords, similar to those that will be constructed at mile points 0.10 and 0.20, will be constructed at each of the two minor drainage channels. The upstream channel (i.e., inlet) will be recontoured to direct surface flow over the paved ford, and inlet and outlet protection will be installed to minimize erosion and scour. Slope protection will be added to portions of the downstream road embankment to minimize erosion.

A vented paved ford will be constructed to facilitate crossing Halls Creek. This ford will include four 36-inch-diameter corrugated metal pipe culverts. The roadway at the crossing will be shifted a short distance downstream (i.e., to the south) from the Halls Creek/Burr Canyon drainage confluence so that the culverts in the paved ford can accommodate flows from the two drainages. Inlet and outlet protection will be added to minimize scouring and erosion. Slope protection will also be placed on the stream banks both upstream and downstream of the crossing if necessary to reduce the potential for erosion of the stream banks.

An existing culvert near the base of the switchbacks in Burr Canyon will be replaced by three 36-inch-diameter corrugated metal pipe culverts. Inlet protection will be installed while the outlet will use the existing rock channel as erosion protection. An approximately 50-foot length of road just east of the existing culvert will be widened 6 to 10 feet by adding a rock embankment and backfilling to widen the road on the south slope of the Burr Canyon drainage.

A cattle guard will be placed at the park boundary by the National Park Service to prevent cattle from entering the park from adjacent Bureau of Land Management-administered lands, and the existing cattle guard at mile point 0.55 will be removed when the current grazing allotment expires.

This course of action and three alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, and an overview of public involvement in the decision-making process.

FOR FURTHER INFORMATION CONTACT: Albert J. Hendricks, Superintendent, Capitol Reef National Park, HC70, Box 15, Torrey Utah 84775, 435-425-3791.

SUPPLEMENTARY INFORMATION: Copies of the Record of Decision may be obtained from the contact listed above or online at http://parkplanning.nps.gov.

Dated: October 23, 2006.
Michael D. Snyder,
Director, Intermountain Region, National Park Service.

[FR Doc. E6-22113 Filed 12-26-06; 8:45 am]

BILLING CODE 4312-DL-P